DEPARTMENT OF COMMERCE

International Trade Administration

C-357-813

Preliminary Results of Full Sunset Review: Countervailing Duty Order on Honey from Argentina

AGENCY: Import Administration, International Trade Administration, Department of Commerce.

SUMMARY: On November 1, 2006, the Department of Commerce (the Department) initiated a sunset review of the countervailing duty (CVD) order on honey from Argentina, pursuant to section 751(c) of the Tariff Act of 1930, as amended (the Act). On the basis of a notice of intent to participate and an adequate substantive response filed on behalf of the domestic interested parties and adequate substantive responses from respondent interested parties, the Department determined to conduct a full sunset review of this CVD order pursuant to section 751(c) of the Act and 19 CFR 351.218(e)(2). As a result of our analysis, the Department preliminarily finds that revocation of the countervailing duty order would be likely to lead to continuation or recurrence of a countervailable subsidy at the level indicated in the “Preliminary Results of Review” section of this notice.

EFFECTIVE DATE: February 28, 2007.

FOR FURTHER INFORMATION CONTACT: Elfi Blum or Dana Mermelstein, AD/CVD Operations, Office 6, Import Administration, International Trade Administration, U.S. Department of Commerce, 14th Street and Constitution Avenue, NW, Washington, DC 20230; telephone: (202) 482-0197 or (202) 482-1391, respectively.

SUPPLEMENTARY INFORMATION:

Background

On November 1, 2006, the Department initiated the first sunset review of the CVD order on honey from Argentina, pursuant to section 751(c) of the Act. See Initiation of Five-year (“Sunset”) Reviews, 71 FR 64242 (November 1, 2006). The Department received notices of intent to participate from the American Honey Producers Association (AHPA) and the Sioux Honey Association (SHA), the petitioners in the original investigation (collectively, “domestic interested parties”), within the deadline specified in 19 CFR 351.218(d)(1)(i). AHPA and SHA claimed interested party status as trade or business associations a majority of whose members manufacture, produce or wholesale a domestic like product for the United States under section 771(9)(E) of the Act; SHA also claimed interested party status under section 771(9)(C) of the Act, as domestic producers of processed and raw honey in the United States engaged in the manufacture, production, or wholesale of honey in the United States. The Department received substantive responses from the domestic interested parties and the following respondent interested parties: the Government of Argentina (GOA), Nexco, S.A (Nexco), HoneyMax, S.A (HoneyMax), and the Asociación de Cooperativas Argentinas (ACA).

On December 20, 2006, the Department determined that the participation of the respondent interested parties was adequate, and that it was appropriate to conduct a full sunset review. See Memorandum to Stephen J. Claeys, Deputy Assistant Secretary, Import Administration, Re: Adequacy Determination: Sunset Review of the Countervailing Duty Order on Honey from Argentina dated December 20, 2006, and on file in the Central Records Unit (CRU), Room B-099 of the main Commerce Building.

Scope Of The Order

The merchandise covered by this order is artificial honey containing more than 50 percent natural honeys by weight, preparations of natural honey containing more than 50 percent natural honeys by weight, and flavored honey. The subject merchandise includes all grades and colors of honey whether in liquid, creamed, combs, cut comb, or chunk form, and whether packaged for retail or in bulk form. The merchandise subject to this order is currently classifiable under subheadings 0409.00.00, 1702.90, and 2106.90.99 of the Harmonized Tariff Schedule of the United States (HTSUS). Although the HTSUS subheadings are provided for convenience and U.S. Customs and Border Protection (CBP) purposes, the Department's written description of the merchandise covered by this order is dispositive.

Analysis Of Comments Received

All issues raised in this review are addressed in the Preliminary Issues and Decision Memorandum from Stephen J. Claeys, Deputy Assistant Secretary for Import Administration, to David M. Spooner, Assistant Secretary for Import Administration (Preliminary Decision Memorandum), dated concurrently with this notice and which is hereby adopted by this notice. Parties can find a complete discussion of all issues raised in this review and the corresponding recommendation in this public memorandum which is on file in the CRU. In addition, a complete version of the Preliminary Decision Memorandum can be accessed directly on the Web at http://ia.ita.doc.gov/frn. The paper copy and electronic version of the Preliminary Decision Memorandum are identical in content.

Preliminary Results Of Review

The Department preliminarily determines that revocation of the CVD order would likely lead to continuation or recurrence of a countervailable subsidy. The net countervailable subsidy likely to prevail if the order were revoked is 5.85 percent.

Interested parties may submit case briefs and hearing requests no later than 50 days after the date of publication of these preliminary results, in accordance with 19 CFR 351.309(c)(1)(i) and 19 CFR 351.310(c). Rebuttal briefs, which must be limited to issues raised in the case briefs, may be filed not later than five days from the filing of the case briefs, in accordance with 19 CFR 351.309(d). If a hearing is requested, parties will be notified of the date, time and location. The Department will issue a notice of final results of this sunset review, which will include the results of its analysis of issues raised in any such briefs, no later than June 29, 2007.

We are issuing and publishing these preliminary results and notice in accordance with sections 751(c), 752, and 777(i)(1) of the Act.

Dated: February 20, 2007.
David M. Spooner,
Assistant Secretary for Import Administration.

[FR Doc. E7-3437 Filed 2-27-07; 8:45 am]

BILLING CODE 3510-DS-S